DEPARTMENT OF HEALTH AND HUMAN SERVICES

Administration for Children and Families

Proposed Information Collection Activity; Annual Report on State Maintenance-of-Effort (MOE) Programs—ACF-204 (Annual MOE Report) (Office of Management and Budget #: 0970-0248)

AGENCY: Office of Family Assistance, Administration for Children and Families, U.S. Department of Health and Human Services.

ACTION: Request for public comments.

SUMMARY: The Administration for Children and Families (ACF) is requesting a 3-year extension of the ACF-204 (Annual MOE Report; OMB #0970-0248, expiration November 30, 2022). There are no changes requested to this information collection.

DATES: Comments due within 60 days of publication. In compliance with the requirements of the Paperwork Reduction Act of 1995, ACF is soliciting public comment on the specific aspects of the information collection described above.

ADDRESSES: You can obtain copies of the proposed collection of information and submit comments by emailing infocollection@acf.hhs.gov. Identify all requests by the title of the information collection.

SUPPLEMENTARY INFORMATION:

Description: The Annual MOE Report is used to collect descriptive program characteristics information on the programs operated by states and territories in association with their Temporary Assistance for Needy Families (TANF) programs. All state and territory expenditures claimed toward states and territories MOE requirements must be appropriate, i.e., meet all applicable MOE requirements. The Annual MOE Report provides the ability to learn about and to monitor the nature of state and territory expenditures used to meet states and territories MOE requirements, and it is an important source of information about the different ways that states and territories are using their resources to help families attain and maintain self-sufficiency. In addition, the report is used to obtain state and territory program characteristics for ACFs annual report to Congress, and the report serves as a useful resource to use in Congressional hearings about how TANF programs are evolving, in assessing state and the territory MOE expenditures, and in assessing the need for legislative changes.

Respondents: The 50 States of the United States, the District of Columbia, Guam, Puerto Rico, and the Virgin Islands.

Annual Burden Estimates
Instrument | Total number of respondents per year | Total number of annual responses per respondent | Average burden hours per response | Annual burden hours
ACF-204; Annual MOE Report | 54 | 1 | 118 | 6,372

Estimated Total Annual Burden Hours: 6,372.

Comments: The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Authority: Section 402 of the Social Security Act (42 U.S.C. 602), as amended by Public Law 104-193, the Personal Responsibility and Work Opportunity Reconciliation Act of 1996.

Mary B. Jones,
ACF/OPRE Certifying Officer.

[FR Doc. 2022-19774 Filed 9-12-22; 8:45 am]

BILLING CODE 4184-82-P